COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds products and a service to the Procurement List that will be furnished by nonprofit agencies employing persons who are blind or have other severe disabilities, and deletes products and services from the Procurement List previously furnished by such agencies.

DATES: Effective on September 25, 2016.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION:

Additions

On 6/10/2016 (81 FR 37581-37582) and 7/1/2016 (81 FR 43191) the Committee for Purchase From People Who Are Blind or Severely Disabled published notices of proposed additions to the Procurement List.

After consideration of the material presented to it concerning capability of qualified nonprofit agencies to provide the products and service and impact of the additions on the current or most recent contractors, the Committee has determined that the products and service listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 8501-8506) in connection with the products and service proposed for addition to the Procurement List.

End of Certification

Accordingly, the following products and service are added to the Procurement List:

Products

NSN(s)—Product Name(s): 6210-00-NIB-0006—Tube Light, LED, T8, Universal (Type A or B), 4100K, 2 Foot

Mandatory for: Total Government Requirement

Mandatory Source(s) of Supply: Industries of the Blind, Inc., Greensboro, NC Central Association for the Blind & Visually Impaired, Utica, NY

Contracting Activity: Defense Logistics Agency Troop Support

Distribution: B-List

NSN(s)—Product Name(s): 6515-01-529-1187—Nasal Trumpet

Mandatory for: 100% of the requirement of the Department of Defense

Mandatory Source(s) of Supply: Lighthouse Works, Orlando, FL

Contracting Activity: Defense Logistics Agency Troop Support

Distribution: C-List

NSN(s)—Product Name(s)

5120-00-NIB-0163—Socket Set, Chrome, 1/4″ Drive Deep, Metric 6 Point Fasteners, 11 Pieces

5120-00-NIB-0164—Socket Set, Chrome, 1/4″ Drive Shallow, Metric 6 Point Fasteners, 11 Pieces

5120-01-429-3605—Socket Set, Chrome 3/8″ Drive Deep, Metric 6 Point Fasteners, 12 Pieces

5120-01-429-3550—Socket Set, Chrome, 1/2″ Drive Deep, Metric 12 Point Fasteners, 13 Pieces

5120-01-429-3569—Socket Set, Chrome, 1/2″ Drive Shallow, Metric 12 Point Fasteners, 13 Pieces

Mandatory for: Total Government Requirement

Mandatory Source(s) of Supply: Wiscraft, Inc., Milwaukee, WI

Contracting Activity: General Services Administration, Kansas City, MO

Distribution: B-List

Service

Service Type: Dormitory Support Service

Mandatory for: U.S. Air Force, Cannon Air Force Base (CAFB), Dormitory Campus, CAFB Fire Department, Base Confinement Area & Fire Department, Melrose AF Range, Cannon AFB, NM, 110 E Alison Avenue, Cannon AFB, NM

Mandatory Source(s) of Supply: ENMRSH, Inc., Clovis, NM

Contracting Activity: Dept of the Air Force, FA4855 27 SOCONS LGC

Deletions

On 7/15/2016 (81 FR 46061-46062) and 7/22/2016 (81 FR 47777-47778), the Committee for Purchase From People Who Are Blind or Severely Disabled published notices of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSN(s)—Product Name(s)

7930-01-494-2985—Ecolab Omni-Pak, Floor Cleaner/Stripper, Heavy-Duty, Water Soluble, .5oz

7930-01-380-8404—EcoLab Water Soluble Cleaners/Detergents

Mandatory Source(s) of Supply: Association for the Blind and Visually Impaired—Goodwill Industries of Greater Rochester, Rochester, NY

Contracting Activity: GSA/FSS Greater Southwest Acquisition CTR (7FCO), Fort Worth, TX

NSN(s)—Product Name(s)

7930-01-600-5752—Starter Kit, Disinfectant Cleaner-Degreaser Cartridge Concentrate

7930-01-600-5749—Refills, Disinfectant Cleaner-Degreaser Cartridge Concentrate

Mandatory Source(s) of Supply: Association for Vision Rehabilitation and Employment, Inc., Binghamton, NY

Contracting Activities: General Services Administration, Fort Worth, TX, Department of Veterans Affairs, National Acquisition Center

NSN(s)—Product Name(s)

7930-01-380-8475—Finish, Floor, Sealer, Non-buffing, High Gloss, Ready-to-Use, 55 gal

Mandatory Source(s) of Supply: Lighthouse for the Blind of Houston, Houston, TX

Contracting Activity: General Services Administration, Fort Worth, TX

NSN(s)—Product Name(s)

7930-01-380-8500—Finish, Floor, Sealer, Non-buffing, High Gloss, Ready-to-Use, 5 gal

7930-01-380-8350—Finish, Floor, Sealer, Non-buffing, High Gloss, Ready-to-Use, 1 gal

Mandatory for: Lighthouse for the Blind of Houston, Houston, TX

Contracting Activity: General Services Administration, Fort Worth, TX

NSN(s)—Product Name(s)

7045-01-392-6514—Greendisk

Mandatory for: North Central Sight Services, Inc., Williamsport, PA

Contracting Activity: Defense Logistics Agency Troop Support

NSN(s)—Product Name(s)

6532-00-083-6534/Gown, Operating, Surgical

6532-00-083-6535—Gown, Operating, Surgical

6532-00-083-6356—Gown, Operating, Surgical

6532-00-104-9895—Gown, Hospital

Mandatory for: Unknown

Contracting Activity: Defense Logistics Agency Troop Support

Services

Service Type: Administrative/General Support Service

Mandatory For: GSA, Southwest Supply Center, 819 Taylor Street, Fort Worth, TX

Mandatory Source(s) of Supply: The Lighthouse for the Blind in New Orleans, Inc., New Orleans, LA

Contracting Activity: General Services Administration, FPDS Agency Coordinator

Service Type: Administrative Support Service

Mandatory for: GSA, Greater Chicagoland Service Center, 230 S Dearborn St #3700, Chicago, IL

Mandatory Source(s) of Supply: The Chicago Lighthouse for People who are Blind or Visually Impaired, Chicago, IL

Contracting Activity: General Services Administration, FPDS Agency Coordinator

Service Type: Janitorial/Custodial Service

Mandatory for: VA Primary Care Clinic, 3715 Municipal Dr., McHenry, IL

Mandatory Source(s) of Supply: The Chicago Lighthouse for People who are Blind or Visually Impaired, Chicago, IL

Contracting Activity: Veterans Affairs, Department of, NAC

Service Type: Employment Placement Service

Mandatory for: Defense Logistics Agency, National Human Resource Offices, Fort Belvoir, VA

Mandatory Source(s) of Supply: The Chicago Lighthouse for People who are Blind or Visually Impaired, Chicago, IL

Contracting Activity: Defense Logistics Agency, DLA Support Services—DSS

Service Type: Administrative Service

Mandatory for: General Services Administration, 230 S. Dearborn Street, Public Building Service Property Development, Chicago, IL

Mandatory Source(s) of Supply: The Chicago Lighthouse for People who are Blind or Visually Impaired, Chicago, IL

Contracting Activity: General Services Administration, FPDS Agency Coordinator

Service Type: Administrative/General Support Service

Mandatory for: GSA, Central Field Office, 536 S. Clark Street, Chicago, IL

Mandatory Source(s) of Supply: The Chicago Lighthouse for People who are Blind or Visually Impaired, Chicago, IL

Contracting Activity: General Services Administration, FPDS Agency Coordinator

Service Type: Parts Machining Service

Mandatory for: Naval Supply Center (Bldg 467): Puget Sound, 467 W Street, Bremerton, WA

Mandatory Source(s) of Supply: The Lighthouse for the Blind, Inc. (Seattle Lighthouse), Seattle, WA

Contracting Activity: DOD/Department of the Navy

Service Type: Assembly, Kit Camouflage Supp. Service

Mandatory for: Department of the Army, Red River Army Depot, 469 Avenue L, Texarkana, TX

Mandatory Source(s) of Supply: Louisiana Association for the Blind, Shreveport, LA

Contracting Activity: Dept of the Army, W40M Northeregion Contract OFC

Service Type: Operation of Postal Service Center Service, Luke Air Force Base, 14185 Falcon St, Luke AFB, AZ

Mandatory Source(s) of Supply: Arizona Industries for the Blind, Phoenix, AZ

Contracting Activity: Dept of the Air Force, FA7014 AFDW PK

Service Type: Switchboard Operation Service

Mandatory for: Cannon Air Force Base, Cannon AFB, NM

Mandatory Source(s) of Supply: ENMRSH, Inc., Clovis, NM

Contracting Activity: Dept of the Air Force, FA4855 27 SOCONS LGC

Service Type: Transportation/Vehicle Operation Service

Mandatory for: Brooks Air Force Base, Brooks AFB, TX

Mandatory Source(s) of Supply: Training, Rehabilitation, & Development Institute, Inc., San Antonio, TX

Contracting Activity: Dept of the Air Force, FA8901 311 ABG PKB

Service Type: Administrative/General Support Service

Mandatory for: Chaplain's Office, Great Lakes Naval Training Center, Great Lakes, IL

Mandatory Source(s) of Supply: The Chicago Lighthouse for People who are Blind or Visually Impaired, Chicago, IL

Contracting Activity: DOD/Department of the Navy

Service Type: Administrative Support Service

Mandatory for: GSA, Tampa Property Management Office, 501 E Polk Street, Tampa, FL

Mandatory Source(s) of Supply: Tampa Lighthouse for the Blind, Tampa, FL

Contracting Activity: General Services Administration, FPDS Agency Coordinator

Service Type: Storage & Distribution of Tape, Webbing

Mandatory for: Defense Supply Center Philadelphia, 2800 S 20th St, Philadelphia, PA

Mandatory Source(s) of Supply: Arizona Industries for the Blind, Phoenix, AZ

Contracting Activity: Defense Logistics Agency Troop Support

Service Type: Fabrication of Tool Box Liners Service

Mandatory for: Fleet and Industrial Supply Center: P.O. Box 97, Naval Air Station, Jacksonville, FL

Mandatory Source(s) of Supply: Arizona Industries for the Blind, Phoenix, AZ

Contracting Activity: DOD/Department of the Navy

Service Type: Repair of Small Hand Tools Service

Mandatory for: Fleet and Industrial Supply Center: P.O. Box 97, Naval Air Station, Jacksonville, FL

Mandatory Source(s) of Supply: Tampa Lighthouse for the Blind, Tampa, FL

Contracting Activity: DOD/Department of the Navy

Service Type: Parts Machining Service

Mandatory for: Fleet and Industrial Supply Center, P.O. Box 97, Naval Air Station, Jacksonville, FL

Mandatory Source(s) of Supply: Arizona Industries for the Blind, Phoenix, AZ

Contracting Activity: DOD/Department of the Navy

Barry S. Lineback,
Director, Business Operations.

[FR Doc. 2016-20536 Filed 8-25-16; 8:45 am]

BILLING CODE 6353-01-P